DEPARTMENT OF ENERGY

Federal Energy Regulatory Commission

[Project No. 13680-001]

Bryant Mountain, LLC; Notice of Additional Scoping Meetings, Extension of Time To File Comments on the PAD and Scoping Document, and Identification of Issues and Associated Study Requests

a. Due to a clerical error, our notice for scoping meetings on the proposed Bryant Mountain Pumped Storage Hydroelectric Project held March 13 and 14, 2012, in Malin and Klamath Falls, Oregon was not published in the local newspaper. Therefore, Commission staff will hold two additional scoping meetings in Malin, Oregon. Additionally, this notice extends the deadline for the filing of comments on the Pre-Application Document (PAD) and Scoping Document 1 (SD1).

b. Type of Filing: Notice of Intent to File License Application for an Original License and Commencing Pre-filing Process.

c. Project No.: 13680-001.

d. Dated Filed: December 21, 2011.

e. Submitted By: Bryant Mountain, LLC.

f. Name of Project: Bryant Mountain Pumped Storage Hydroelectric Project.

g. Location: Near Malin in Klamath County, Oregon, on lands administered by the U.S. Bureau of Land Management and private lands.

h. Filed Pursuant to: 18 CFR part 5 of the Commission's Regulations.

i. Potential Applicant Contact: Mr. Bart O'Keeffe, Bryant Mountain, LLC, P.O. Box 1916, Discovery Bay, California 94505, (925) 634-1550 or email at bmokeeffe@sbcglobal.net.

j. FERC Contact: Ryan Hansen at (202) 502-8074 or email at ryan.hansen@ferc.gov.

k. Cooperating agencies: Federal, state, local, and tribal agencies with jurisdiction and/or special expertise with respect to environmental issues that wish to cooperate in the preparation of the environmental document should follow the instructions for filing such requests described in item m below. Cooperating agencies should note the Commission's policy that agencies that cooperate in the preparation of the environmental document cannot also intervene. See 94 FERC ¶ 61,076 (2001).

l. Bryant Mountain, LLC, filed with the Commission a PAD (including a proposed process plan and schedule), pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://www.ferc.gov/docs-filing/esubscription.asp to be notified via email of new filing and issuances related to this or other pending projects. For assistance, contact FERC Online Support.

n. With this notice, we are extending the period in which we are soliciting comments on the PAD and Commission's staff Scoping Document 1 (SD1), as well as study requests to ensure that all stakeholders have been notified. All comments on the PAD and SD1, and study requests should be sent to the address above in paragraph i. In addition, all comments on the PAD and SD1, study requests, requests for cooperating agency status, and all communications to and from Commission staff related to the merits of the potential application must be filed with the Commission. Documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

All filings with the Commission must include on the first page, the project name (Bryant Mountain Pumped Storage Hydroelectric Project) and the project number (P-13680-001), and bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by June 11, 2012.

o. We intend to prepare an Environmental Impact Statement (EIS) for this project. The scoping meetings identified below satisfy the NEPA scoping requirements.

Scoping Meetings

Commission staff will hold two scoping meetings in the vicinity of the project at the time and place noted below. We invite all interested individuals, organizations, and agencies to attend one or both of the meetings, and to assist staff in identifying particular study needs, as well as the scope of environmental issues to be addressed in the environmental document. The times and locations of these meetings are as follows:

Daytime Scoping Meeting

Date and Time: Tuesday, May 8, 2012, 9 a.m.-12 p.m.

Location: Malin City Park Hall, 2432 Fourth Street, Malin, OR 97632.

Phone Number: (541) 723-2021.

Evening Scoping Meeting

Date and Time: Tuesday, May 8, 2012, 6 p.m.-9 p.m.

Location: Malin City Park Hall, 2432 Fourth Street, Malin, OR 97632.

Phone Number: (541) 723-2021.

Scoping Document 1 (SD1), which outlines the subject areas to be addressed in the environmental document, was mailed to the individuals and entities on the Commission's and the applicant's mailing list. Copies of SD1 will be available at the scoping meetings, or may be viewed on the web at http://www.ferc.gov, using the “eLibrary” link. Follow the directions for accessing information in paragraph n. Based on all oral and written comments, a Scoping Document 2 (SD2) may be issued. SD2 will include a revised process plan and schedule, as well as a list of issues, identified through the scoping process.

Meeting Objectives

At the scoping meetings, staff will: (1) Discuss a preliminary list of issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item m. of this document.

Meeting Procedures

The meetings will be recorded by a stenographer and will be placed in the public records of the project.

Dated: April 11, 2012.
Kimberly D. Bose,
Secretary.

[FR Doc. 2012-9272 Filed 4-17-12; 8:45 am]

BILLING CODE 6717-01-P